DEPARTMENT OF ENERGY

Federal Energy Regulatory Commission

[Docket No. CP09-19-000]

Port Barre Investments, L.L.C. (d/b/a Bobcat Gas Storage); Notice of Intent To Prepare an Environmental Assessment for the Proposed Bobcat Gas Storage Project Expansion and Request for Comments on Environmental Issues

December 8, 2008.

The staff of the Federal Energy Regulatory Commission (FERC or Commission) will prepare an environmental assessment (EA) that will discuss the environmental impacts of the proposed Bobcat Gas Storage Project Expansion (Bobcat Expansion) involving construction and operation of additional natural gas storage caverns and pipeline facilities by Port Barre Investments, L.L.C. (d/b/a Bobcat Gas Storage (Bobcat)) in St. Landry Parish, Louisiana.¹ The EA will be used by the Commission in its decision-making process to determine whether or not to authorize the project under section 7 of the Natural Gas Act.

¹ The Bobcat Gas Storage Project was authorized by the Commission on July 20, 2006 in Docket No. CP06-66-000, and amended on April 19, 2007 and March 4, 2008 in Docket Nos. CP06-66-001 and CP06-66-002, respectively. Construction of the Bobcat Gas Storage Project began in December 2006 and is ongoing.

This notice explains the scoping process we ² will use to gather environmental input from the public and interested agencies, and summarizes the project review process for the FERC. Your input will help determine which issues need to be evaluated in the EA. Details on how to submit comments during the scoping period are provided in the Public Participation section of this notice. Please note that the scoping period will close on January 7, 2009.

² “We,” “us,” and “our” refer to the environmental staff of the FERC's Office of Energy Projects.

This notice is being sent to potentially affected landowners; federal, state, and local government agencies; elected officials; environmental and public interest groups; Native American Tribes; other interested parties; and local libraries and newspapers. State and local government representatives are asked to notify their constituents of this planned project and encourage them to comment on their areas of concern.

If you are a landowner receiving this notice, you may be contacted by a Bobcat representative about survey permission and/or the acquisition of an easement to construct, operate, and maintain the proposed facilities. The company would seek to negotiate a mutually acceptable agreement. However, if the project is approved by the Commission, that approval conveys with it the right of eminent domain. Therefore, if easement negotiations fail to produce an agreement, the natural gas company could initiate condemnation proceedings in accordance with state law.

A fact sheet prepared by the FERC entitled “An Interstate Natural Gas Facility On My Land? What Do I Need To Know?” is available for viewing on the FERC Web site (http://www.ferc.gov). This fact sheet addresses a number of typically asked questions, including the use of eminent domain and how to participate in the Commission's proceedings.

Summary of the Proposed Project

The Bobcat Gas Storage Site currently has an overall natural gas storage capacity of 20.4 billion cubic feet (Bcf), with 15.6 Bcf of working gas capacity in two solution-mined salt storage caverns; Bobcat Cavern No. 1 which was placed into service November 1, 2008, and Bobcat Cavern No. 2 which is currently under construction. Bobcat has proposed to expand its storage and deliverability capabilities to satisfy its customers growing demand for natural gas storage. The proposed Bobcat Expansion would involve construction of three additional storage caverns at the existing Bobcat Gas Storage Site to increase the overall storage capacity by about 31.5 Bcf (24 Bcf working gas, 7.5 Bcf cushion gas).³ Bobcat would also expand its compressor station by installing additional gas-fired engine compressors, resulting in a station total of 64,575 horsepower (hp). In addition, Bobcat would construct new pipeline facilities and modify four meter stations to accommodate the increased deliverability.

³ “Cushion gas” (also referred to as base gas) is the volume of gas that is intended as permanent inventory in a storage reservoir to maintain adequate pressure and deliverability rates. “Working gas” is the total gas in storage minus the base gas. Working gas is the volume of gas available to the market place at a particular time.

Specifically, the Expansion Project would include construction and operation of:

• Three new salt cavern storage wells (Bobcat Nos. 3, 4, and 5) and ancillary facilities to connect the caverns to Bobcat's existing facilities;

• 26,695 hp of additional compression and two dehydration units totaling 600 million cubic feet per day (MMcfd) at the existing Bobcat Compressor Station;

• A 9.96-mile-long, 20-inch-diameter natural gas pipeline loop ⁴ constructed in the existing North Pipeline Corridor;

⁴ A pipeline loop is constructed parallel to an existing pipeline to increase capacity.

• A 2.68-mile-long, 16-inch-diameter natural gas pipeline loop constructed in the existing West Pipeline Corridor;

• Modification of the existing metering facilities at pipeline interconnects with Gulf South Pipeline, Texas Eastern Transmission, L.P., ANR Pipeline, and Transcontinental Gas Pipe Line Company; and

• Expansion of the existing West Pipeline Tie-Over Site to include a new pig ⁵ launcher and pipeline tie-in.

⁵ A pig is a device used to clean or inspect the internal surface of a pipeline. They are inserted into the pipeline by means of a device called a pig launcher and pushed through the pipeline by pressure of the flowing fluid, usually gas.

The general location of the Expansion Project facilities is shown in Appendix 1.⁶

⁶ The appendices referenced in this notice are not being printed in the Federal Register. Copies of all appendices are available on the Commission's Web site at the “eLibrary” link or from the Commission's Public Reference Room, 888 First Street, NE., Washington, DC 20426, or call (202) 502-8371. For instructions on connecting to eLibrary refer to the last page of this notice. Copies of the appendices were sent to all those receiving this notice in the mail.

If approved, Bobcat proposes to construct the Bobcat Expansion facilities during the first quarter of 2009, and place the new facilities into service by the third quarter of 2012.

Land Requirements for Construction

Construction of the Bobcat Expansion would affect a total of approximately 119.6 acres of land. Following construction, a total of about 114.0 acres of land would be allowed to revert to previous conditions. The remaining 5.6 acres of land would be retained for operation of aboveground facilities and access roads. Permanent rights-of-way in agricultural lands would be restored to agricultural uses following construction.

With the exception of 0.04 acre required for expanding the West Pipeline Tie-Over Site, all construction activity would be located on property owned or leased by Bobcat, or within previously disturbed construction rights-of-way and workspaces. The proposed storage caverns and compressor station expansion would be located within the existing 83-acre Gas Storage Site. The pipeline loops would be located within existing Bobcat rights-of-way. Bobcat has not proposed to acquire additional permanent rights-of-way to operate the proposed pipelines. Modifications to the meter stations would occur entirely within the existing fencelines for each station. The West Pipeline Tie-Over Site would be expanded (40 feet by 40 feet), permanently impacting 0.04 acre of agricultural land.

Bobcat would use previously authorized public and private roads to access the construction rights-of-way and aboveground facilities. Bobcat would construct two new access roads and relocate an existing permanent access road within the previously authorized 83-acre Gas Storage Site to provide permanent access to the proposed Bobcat cavern wells Nos. 4 and 5.

The EA Process

We are preparing an EA to comply with the National Environmental Policy Act of 1969 (NEPA) which requires the Commission to take into account the environmental impact that could result if it authorizes Bobcat's proposal. NEPA also requires us to discover and address the public's concerns about proposals that require federal authorizations. This process is referred to as “scoping.” The main goal of the scoping process is to focus the analysis in the EA on the important environmental issues.

By this notice, we are requesting public comments on the scope of the issues to be addressed in the EA. All comments received will be considered during preparation of the EA. We are also asking federal, state, and local agencies with jurisdiction and/or special expertise with respect to environmental issues to formally cooperate with us in the preparation of the EA. Agencies that would like to request cooperating status should follow the instructions for filing comments provided below.

The EA will discuss impacts that could occur as a result of the construction and operation of the proposed project, under the general headings of geology and soils; land use; water resources, fisheries, and wetlands; cultural resources; vegetation and wildlife; threatened and endangered species; air quality and noise; safety and reliability; and cumulative impacts. The EA will also evaluate reasonable alternatives to the proposed project, and make recommendations on how to lessen or avoid impacts on affected resources.

Our independent analysis of the issues will be in the EA. Depending on the comments received during the scoping process, the EA may be published and mailed to federal, state, and local agencies; newspapers; libraries; interested individuals; and the Commission's official service list for this proceeding. An additional comment period will be allotted for review if the EA is published. We will consider all comments on the EA before we make our recommendations to the Commission.

Currently Identified Environmental Issues

We have already identified several issues that we think deserve attention based on a preliminary review of the proposed facilities and the environmental information provided by Bobcat. This preliminary list of issues may be changed based on your comments and our analysis.

• Construction impacts to wetlands located in the proposed project area.

• Construction and operational noise near residences and structures.

• Additional water pumping requirements for cavern leaching.

Public Participation

You can make a difference by providing us with your specific comments or concerns about the Bobcat Expansion Project. Your comments should focus on the potential environmental effects, reasonable alternatives, and measures to avoid or lessen environmental impacts. The more specific your comments, the more useful they will be. To ensure that your comments are timely and properly recorded, please send in your comments so that they will be received in Washington, DC on or before January 7, 2009.

For your convenience, there are three methods which you can use to submit your written comments to the Commission. The three methods are:

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 3, PJ-11.3.

In all instances please reference the project docket number (CP09-19-000) with your submission. The Commission strongly encourages electronic filing of comments and has dedicated eFiling expert staff available to assist you at 202-502-8258 or efiling@ferc.gov.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214). Interventions may also be filed electronically via the Commission's Internet Web site at http://www.ferc.gov. Only intervenors have the right to seek rehearing of the Commission's decision.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

We may mail the EA for comment. If you are interested in receiving the EA for review and/or comment, please return the Mail List Retention Form (Appendix 3). In addition, all individuals who provide written comments to the FERC will remain on our environmental mailing list for this project. If you do not return the Mail List Retention Form or provide written comments, you will be taken off the mailing list.

Additional Information

Additional information about the project is available from the Commission's Office of External Affairs, at 1-866-208-FERC or on the FERC Internet Web site (http://www.ferc.gov) using the “eLibrary” link. Click on the eLibrary link, click on “General Search” and enter the docket number excluding the last three digits in the Docket Number field (e.g., CP09-19). Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to http://www.ferc.gov/esubscribenow.htm.

Fact sheets prepared by the FERC are also available for viewing on the FERC Internet Web site (http://www.ferc.gov), using the “For Citizens” link. The fact sheet, “Guide to Electronic Information at FERC,” provides instructions on how to stay informed and participate in the Commission's proceedings.

Finally, Bobcat will be updating its Web site at http://www.BobcatStorage.com/ to share news and updates as the environmental review of its project proceeds.

Kimberly D. Bose,
Secretary.

[FR Doc. E8-29474 Filed 12-11-08; 8:45 am]

BILLING CODE 6717-01-P